DEPARTMENT OF TRANSPORTATION

Federal Aviation Administration

14 CFR Part 39

[Docket No. FAA-2007-28645; Directorate Identifier 2007-CE-059-AD; Amendment 39-15228; AD 2007-21-10]

RIN 2120-AA64

Airworthiness Directives; EADS SOCATA Model TBM 700 Airplanes

AGENCY: Federal Aviation Administration (FAA), Department of Transportation (DOT).

ACTION: Final rule.

SUMMARY: We are adopting a new airworthiness directive (AD) for the products listed above. This AD results from mandatory continuing airworthiness information (MCAI) originated by an aviation authority of another country to identify and correct an unsafe condition on an aviation product. The MCAI describes the unsafe condition as:

This Airworthiness Directive (AD) results from one report about imperfect locking on ground of the upper access door opening interior handle which has enabled its opening without actuating unlocking knob.

If not corrected an inadvertent action on the handle without actuating the unlocking knob could lead to a door opening.

Investigations identified the unsafe condition resulting from interference between the window trim panel and the handle locking mechanism.

We are issuing this AD to require actions that are intended to address the unsafe condition described in the MCAI.

DATES: This AD becomes effective November 21, 2007.

On November 21, 2007, the Director of the Federal Register approved the incorporation by reference of certain publications listed in this AD.

ADDRESSES: You may examine the AD docket on the Internet at http://www.regulations.gov or in person at the Docket Management Facility, U.S. Department of Transportation, Docket Operations, M-30, West Building Ground Floor, Room W12-140, 1200 New Jersey Avenue, SE., Washington, DC 20590.

Examining the AD Docket

You may examine the AD docket on the Internet at http://www.regulations.gov; or in person at the Docket Management Facility between 9 a.m. and 5 p.m., Monday through Friday, except Federal holidays. The AD docket contains this AD, the regulatory evaluation, any comments received, and other information. The street address for the Docket Office (telephone (800) 647-5527) is in the ADDRESSES section. Comments will be available in the AD docket shortly after receipt.

FOR FURTHER INFORMATION CONTACT: Albert Mercado, Aerospace Engineer, FAA, Small Airplane Directorate, 901 Locust, Room 301, Kansas City, Missouri 64106; telephone: (816) 329-4119; fax: (816) 329-4090.

SUPPLEMENTARY INFORMATION:

Discussion

We issued a notice of proposed rulemaking (NPRM) to amend 14 CFR part 39 to include an AD that would apply to the specified products. That NPRM was published in the Federal Register on August 1, 2007 (72 FR 41968). That NPRM proposed to correct an unsafe condition for the specified products. The MCAI states:

This Airworthiness Directive (AD) results from one report about imperfect locking on ground of the upper access door opening interior handle which has enabled its opening without actuating unlocking knob.

If not corrected an inadvertent action on the handle without actuating the unlocking knob could lead to a door opening.

Investigations identified the unsafe condition resulting from interference between the window trim panel and the handle locking mechanism.

Requirements of this AD are first, check for proper operation the locking handle and secondly modification of the window trim panel.

Comments

We gave the public the opportunity to participate in developing this AD. We have considered the comment received.

Comment Issue: AD Differences

EADS SOCATA commented that the proposed AD states that there are no differences between the proposed AD and the service information, but the proposed AD requires the installation of a placard on the instrument panel and the service information does not require this placard.

The requirement for the placard was provided to ensure the operating limitation noted in the related service information was clear to the operator and to enforce the limitation. The only way the FAA can legally mandate the operating limitation is through a placard or airplane flight manual change. We do not consider that as an FAA AD difference as the placard requirement only enforces the operating limitation in the MCAI and service bulletins.

We are making no changes to the final rule AD action based on this comment.

Conclusion

We reviewed the available data, including the comment received, and determined that air safety and the public interest require adopting the AD as proposed.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a Note within the AD.

Costs of Compliance

Based on the service information, we estimate that this AD would affect about 23 products of U.S. registry. We also estimate that it would take about 2 work-hours per product to comply with the basic requirements of this AD. The average labor rate is $80 per work-hour. Required parts would cost about $5 per product. Where the service information lists required parts costs that are covered under warranty, we have assumed that there will be no charge for these costs. As we do not control warranty coverage for affected parties, some parties may incur costs higher than estimated here.

Based on these figures, we estimate the cost of the AD on U.S. operators to be $3,795, or $165 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a regulatory evaluation of the estimated costs to comply with this AD and placed it in the AD Docket.

Examining the AD Docket

You may examine the AD docket on the Internet at http://www.regulations.gov; or in person at the Docket Management Facility between 9 a.m. and 5 p.m., Monday through Friday, except Federal holidays. The AD docket contains the NPRM, the regulatory evaluation, any comments received, and other information. The street address for the Docket Office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2007-21-10 EADS SOCATA: Amendment 39-15228; Docket No. FAA-2007-28645; Directorate Identifier 2007-CE-059-AD.

Effective Date

(a) This airworthiness directive (AD) becomes effective November 21, 2007.

Affected ADs

(b) None.

Applicability

(c) This AD applies to TBM 700 airplanes, serial numbers 1 through 9, 11 through 17, 19 through 22, 25 through 27, 29 through 31, 33 and 34, 38, 46, and 49, that are:

(1) certificated in any category;

(2) not equipped with modification No. MOD70-019-25; and

(3) equipped with an interior handle unlocking device through push-button.

Subject

(d) Air Transport Association of America (ATA) Code 52: Doors.

Reason

(e) The mandatory continuing airworthiness information (MCAI) states:

This Airworthiness Directive (AD) results from one report about imperfect locking on ground of the upper access door opening interior handle which has enabled its opening without actuating unlocking knob.

If not corrected an inadvertent action on the handle without actuating the unlocking knob could lead to a door opening.

Investigations identified the unsafe condition resulting from interference between the window trim panel and the handle locking mechanism.

Requirements of this AD are first, check for proper operation the locking handle and secondly modification of the window trim panel.

Actions and Compliance

(f) Unless already done, do the following actions:

(1) Before each flight after November 21, 2007 (the effective date of this AD) until the actions of paragraph (f)(2) of this AD have been done, check the handle locking using paragraph A of the accomplishment instructions in EADS SOCATA Mandatory TBM Aircraft Service Bulletin SB 70-150, dated May 2007. If any discrepancy is found, do the following before further flight until the modification in paragraph (f)(2) of this AD is done:

(i) Fabricate a placard using letters at least 1/8 inches in height with the words “FLIGHT ALLOWED WITH ONLY THE FLIGHT DECK SEATS OCCUPIED.”

(ii) Install this placard on the instrument panel within clear view of the pilot.

(iii) The owner/operator holding at least a private pilot certificate as authorized by section 43.7 of the Federal Aviation Regulations (14 CFR 43.7) may do both the pre-flight checks and the placard requirements of this AD. Make an entry in the aircraft records showing compliance with this portion of the AD following section 43.9 of the Federal Aviation Regulations (14 CFR 43.9).

(2) Within the next 12 months after November 21, 2007 (the effective date of this AD) modify the window trim panel using paragraph B of the accomplishment instructions in EADS SOCATA Mandatory TBM Aircraft Service Bulletin SB 70-150, dated May 2007. This modification terminates the requirements of paragraph (f)(1) of this AD.

FAA AD Differences

Note: This AD differs from the MCAI and/or service information as follows: No differences.

Other FAA AD Provisions

(g) The following provisions also apply to this AD:

(1) Alternative Methods of Compliance (AMOCs): The Manager, Standards Staff, FAA, has the authority to approve AMOCs for this AD, if requested using the procedures found in 14 CFR 39.19. Send information to ATTN: Albert Mercado, Aerospace Engineer, FAA, Small Airplane Directorate, 901 Locust, Room 301, Kansas City, Missouri 64106; telephone: (816) 329-4119; fax: (816) 329-4090. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act (44 U.S.C. 3501 et seq.), the Office of Management and Budget (OMB) has approved the information collection requirements and has assigned OMB Control Number 2120-0056.

Related Information

(h) Refer to MCAI European Aviation Safety Agency (EASA) Emergency AD No: 2007-0172-E, dated June 15, 2007; and EADS SOCATA Mandatory TBM Aircraft Service Bulletin SB 70-150, dated May 2007, for related information.

Material Incorporated by Reference

(i) You must use EADS SOCATA Mandatory TBM Aircraft Service Bulletin SB 70-150, dated May 2007 to do the actions required by this AD, unless the AD specifies otherwise.

(1) The Director of the Federal Register approved the incorporation by reference of this service information under 5 U.S.C. 552(a) and 1 CFR part 51.

(2) For service information identified in this AD, contact EADS SOCATA—Direction des Services, 65921 Tarbes Cedex 9, France; telephone: +33 (0)5 62 41 73 00; fax: +33 (0)5 62 41 7-54; or in the United States contact SOCATA AIRCRAFT, INC., North Perry Airport, 7501 South Airport Rd., Pembroke Pines, FL 33023; telephone: (954) 893-1400; fax: (954) 964-4141.

(3) You may review copies at the FAA, Central Region, Office of the Regional Counsel, 901 Locust, Room 506, Kansas City, Missouri 64106; or at the National Archives and Records Administration (NARA). For information on the availability of this material at NARA, call 202-741-6030, or go to: http://www.archives.gov/federal-register/cfr/ibr-locations.html.

Issued in Kansas City, Missouri, on October 4, 2007.
David R. Showers,
Acting Manager, Small Airplane Directorate, Aircraft Certification Service.

[FR Doc. E7-20140 Filed 10-16-07; 8:45 am]

BILLING CODE 4910-13-P